DEPARTMENT OF DEFENSE

Office of the Secretary

Meeting of the Advisory Council on Dependents' Education

AGENCY: Department of Defense Education Activity (DoDEA).

ACTION: Open meeting notice.

SUMMARY: Pursuant to the Federal Advisory Committee Act, Appendix 2 of title 5, United States Code, Public Law 92-463, notice is hereby given that a meeting of the Advisory Council on Dependents' Education (ACDE) is scheduled to be held on October 4, 2001, from 8 a.m. to 5 p.m. The meeting will be held in the 9th floor conference room at the Department of Defense Education Activity (DODEA) located at 4040 North Fairfax Drive, Arlington, Virginia. The purpose of the ACDE is to recommend to the Director, Department of Defense Education Activity (DoDEA), general policies for the operation of the Department of Defense Dependents Schools (DoDDS); to provide the Director with information about effective educational programs and practices that should be considered by DoDDS; and to perform other tasks as may be required by the Secretary of Defense. The meeting emphases will be on quality high schools, headquarters reorganization, system requirements (e.g., personnel issues, customer service), and the ACDE/North Central Association pilot. For further information contact Ms. Marsha Jacobson, at 703-696-4235, extension 1990.

Dated: August 20, 2001.
L.M. Bynum,
Alternate OSD Federal Register Liaison Officer, DoD.

[FR Doc. 01-21636 Filed 8-27-01; 8:45 am]

BILLING CODE 5001-08-M